DEPARTMENT OF TRANSPORTATION

Federal Aviation Administration

14 CFR Part 39

[Docket No. FAA-2024-2145; Project Identifier MCAI-2024-00077-T; Amendment 39-22954; AD 2025-03-06]

RIN 2120-AA64

Airworthiness Directives; Airbus SAS Airplanes

AGENCY: Federal Aviation Administration (FAA), DOT.

ACTION: Final rule.

SUMMARY: The FAA is superseding Airworthiness Directive (AD) 2017-22-03, AD 2023-13-10, and AD 2024-04-03, which applied to certain Airbus SAS Model A318, A319, A320, and A321 series airplanes. AD 2017-22-03, AD 2023-13-10, and AD 2024-04-03 required revising the existing maintenance or inspection program, as applicable, to incorporate new or more restrictive airworthiness limitations. This AD continues to require certain actions in AD 2023-13-10 and all actions in AD 2024-04-03, and requires revising the existing maintenance or inspection program, as applicable, to incorporate new or more restrictive airworthiness limitations, as specified in a European Union Aviation Safety Agency (EASA) AD, which is incorporated by reference. The FAA is issuing this AD to address the unsafe condition on these products.

DATES: This AD is effective March 21, 2025.

The Director of the Federal Register approved the incorporation by reference of a certain publication listed in this AD as of March 21, 2025.

The Director of the Federal Register approved the incorporation by reference of a certain other publication listed in this AD as of April 19, 2024 (89 FR 18769, dated March 15, 2024).

The Director of the Federal Register approved the incorporation by reference of certain other publications listed in this AD as of September 5, 2023 (88 FR 50005, dated August 1, 2023).

ADDRESSES:

AD Docket: You may examine the AD docket at regulations.gov under Docket No. FAA-2024-2145; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2145.

FOR FURTHER INFORMATION CONTACT: Timothy Dowling, Aviation Safety Engineer, FAA, 2200 South 216th St., Des Moines, WA 98198; phone: 206-231-3667; email: Timothy.P.Dowling@faa.gov.

SUPPLEMENTARY INFORMATION:

Background

The FAA issued a notice of proposed rulemaking (NPRM) to amend 14 CFR part 39 to supersede AD 2023-13-10, Amendment 39-22495 (88 FR 50005, August 1, 2023) (AD 2023-13-10), and AD 2024-04-03, Amendment 39-22682 (89 FR 18769, March 15, 2024) (AD 2024-04-03). AD 2023-13-10 and AD 2024-04-03 applied to certain Airbus SAS Model A318, A319, A320, and A321 series airplanes. AD 2023-13-10 required revising the existing maintenance or inspection program, as applicable, to incorporate new or more restrictive airworthiness limitations. AD 2024-04-03 required revising the existing maintenance or inspection program, as applicable, to incorporate additional new or more restrictive airworthiness limitations and terminated certain requirements of AD 2023-13-10. The FAA issued AD 2023-13-10 and AD 2024-04-03 to address fatigue cracking, accidental damage, or corrosion in principal structural elements, which could result in reduced structural integrity of the airplane.

The NPRM published in the Federal Register on September 20, 2024 (89 FR 77045). The NPRM was prompted by AD 2024-0031, dated January 31, 2024; corrected February 1, 2024, issued by EASA, which is the Technical Agent for the Member States of the European Union (EASA AD 2024-0031) (also referred to as the MCAI). The MCAI states that new or more restrictive airworthiness limitations have been developed.

In the NPRM, the FAA proposed to continue to require all requirements of AD 2024-04-03 and certain requirements of AD 2023-13-10. The FAA also proposed to require revising the existing maintenance or inspection program, as applicable, to incorporate additional new or more restrictive airworthiness limitations, as specified in EASA AD 2024-0031. The FAA is issuing this AD to address fatigue cracking, accidental damage, or corrosion in principal structural elements, which could result in reduced structural integrity of the airplane.

You may examine the MCAI in the AD docket at regulations.gov under Docket No. FAA-2024-2145.

Discussion of Final Airworthiness Directive

Comments

The FAA received comments from two commenters, Delta Air Lines (Delta) and United Airlines (United). The following presents the comments received on the NPRM and the FAA's response to each comment.

Request To Except Certain Tasks

Delta requested that an exception be added to paragraph (o) of the proposed AD to exclude tasks in section 4 of Airbus A318/A319/A320/A321 Airworthiness Limitations Section (ALS) Part 2 (ALS Part 2). In correspondence between Delta and Airbus, Delta noted certain ALS Part 2 tasks did not include associated maintenance planning document (MPD) or airplane maintenance manual (AMM) references. Delta stated that Airbus replied that those tasks are in Section 4 of ALS Part 2 and are part of the Maintenance Program Publication Trigger (MPPT), and that the contents of section 4 have been excluded from the MPD because the requirements of section 4 are not applicable to any operator today. Airbus also stated that if the tasks in that section become applicable, they would be transferred to section 3 of that document.

The FAA agrees with adding an exception to paragraph (o) of this AD to exclude incorporation of Section 4, “Damage Tolerant—Airworthiness Limitations Items—tasks beyond MPPT,” of ALS Part 2 and has revised this AD accordingly. Tasks listed under the MPPT are a placeholder with no maintenance instructions. According to the binding schedule between Airbus and the FAA, maintenance instructions for these tasks must be provided by Airbus prior to reaching the threshold of such task. The FAA acknowledges when such tasks become applicable, Airbus moves them into Section 3 of ALS Part 2 as new requirements. Therefore, it is not necessary to incorporate Section 4 of ALS Part 2 into the applicable existing maintenance or inspection program.

Request To Add a Paragraph Specifying AD 2017-22-03 Has Been Superseded

Delta requested that a paragraph be added to the proposed AD stating AD 2017-22-03, Amendment 39-19083 (82 FR 49091, October 24, 2017) (AD 2017-22-03), has been superseded and is historical in reference. Delta noted AD 2017-22-03 required incorporation of ALS Part 1, Revision 02, and ALS Part 2, Revision 02. Delta also noted paragraph (j) of AD 2017-22-03 specified that incorporation of ALS Part 1, Revision 04, into the applicable maintenance or inspection program is a method of compliance for incorporation of ALS Part 1, Revision 02, and that this requirement was later terminated by AD 2018-17-19, Amendment 39-19373 (83 FR 44460, August 31, 2018) (AD 2018-17-19), which mandated ALS Part 1, Revision 05. Delta stated AD 2018-17-19 was subsequently superseded by AD 2019-19-15, Amendment 39-19751 (84 FR 54480, October 10, 2019) (AD 2019-19-15). Delta further stated while AD 2018-17-19 is noted as “Historical” in the FAA Dynamic Regulatory System (DRS), AD 2017-22-03 shows as “Current” in DRS.

The FAA agrees that all the requirements of AD 2017-22-03 have been terminated by previous ADs. After AD 2017-22-03 was issued, subsequent ALS Part 1 revisions and ALS Part 2 revisions were separated into different AD actions. The FAA acknowledges the requirements to incorporate ALS Part 1, Revision 02, were terminated by AD 2018-17-19, which was later terminated by AD 2019-19-15. The FAA subsequently issued AD 2020-21-11, Amendment 39-21284 (85 FR 65674, October 16, 2020), to supersede AD 2018-17-19 and AD 2019-19-15. AD 2022-22-10, Amendment 39-22225 (87 FR 72374, November 25, 2022), is the AD that requires incorporation of ALS Part 1, Revision 08.

The remaining requirements of AD 2017-22-03 pertaining to incorporation of ALS Part 2, Revision 02, were terminated by AD 2018-25-02, Amendment 39-19513 (83 FR 62690, December 6, 2018) (AD 2018-25-02), which was later terminated by AD 2019-23-01, Amendment 39-19794 (84 FR 66579, December 5, 2019) (AD 2019-23-01). The FAA subsequently issued AD 2020-20-05, Amendment 39-21261 (85 FR 65197, October 15, 2020) (AD 2020-20-05), to supersede AD 2018-25-02 and AD 2019-23-01. The FAA then issued AD 2023-13-10 (which requires incorporation of ALS Part 2, Revision 09) to supersede AD 2020-20-05. This AD requires incorporation of ALS Part 2, Revision 10, Issue 02, as specified in EASA AD 2024-0031.

The FAA recognizes that AD 2017-22-03 should have been superseded with issuance of AD 2020-20-05 and AD 2020-21-11. Therefore, the FAA has revised this AD to supersede AD 2017-22-03. Note the requirements of AD 2017-22-03 are not restated in this AD because those requirements were terminated by previous ADs that mandated incorporation of later revisions to ALS Part 1 and ALS Part 2. After the effective date of this AD, the FAA will recategorize AD 2017-22-03 as historical in the DRS.

Request To Extend Compliance Time for Certain Tasks

United requested that the proposed AD be revised to allow extensions provided in Airbus Statement of Compliance (ASAC) when it supports extensions to compliance times of specified ALS Part 2 tasks as an alternative method of compliance (AMOC). United noted that Airbus does not have the authority for Design Organization Approval (DOA) signatures on ASACs. United stated Airbus analysis and technical substantiations justify that the extensions in an ASAC provide an acceptable level of safety to ensure that the structural integrity of the aircraft is maintained.

The FAA disagrees, since the FAA needs to review each individual extension request, which can then be supported through the AMOC process, provided sufficient justification is available. Sufficient justification, supported by an acceptable level of safety, is needed to grant such a request. In such situations, the operator should work with the FAA as early as possible. The FAA has not revised this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0031 specifies new or more restrictive airworthiness limitations for airplane structures and safe life limits.

This AD also requires the following material, which the Director of the Federal Register approved for incorporation by reference as of September 5, 2023 (88 FR 50005, August 1, 2023):

• EASA AD 2022-0085, dated May 12, 2022.

• EASA AD 2023-0008, dated January 16, 2023.

This AD also requires EASA AD 2023-0151, dated July 25, 2023, which the Director of the Federal Register approved for incorporation by reference as of April 19, 2024 (89 FR 18769, March 15, 2024).

This material is reasonably available because the interested parties have access to it through their normal course of business or by the means identified in the ADDRESSES section.

Costs of Compliance

The FAA estimates that this AD affects 1,898 airplanes of U.S. registry. The FAA estimates the following costs to comply with this AD:

The FAA estimates the total cost per operator for the retained actions from AD 2023-13-10 to be $7,650 (90 work-hours × $85 per work-hour).

The FAA estimates the total cost per operator for the retained actions from AD 2024-04-03 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-22-03, Amendment 39-19083 (82 FR 49091, October 24, 2017); AD 2023-13-10, Amendment 39-22495 (88 FR 50005, August 1, 2023); and AD 2024-04-03, Amendment 39-22682 (89 FR 18769, March 15, 2024); and

b. Adding the following new AD:

2025-03-06 Airbus SAS: Amendment 39-22954; Docket No. FAA-2024-2145; Project Identifier MCAI-2024-00077-T.

(a) Effective Date

This airworthiness directive (AD) is effective March 21, 2025.

(b) Affected ADs

(1) This AD replaces AD 2017-22-03, Amendment 39-19083 (82 FR 49091, October 24, 2017).

(2) This AD replaces AD 2023-13-10, Amendment 39-22495 (88 FR 50005, August 1, 2023) (AD 2023-13-10).

(3) This AD replaces AD 2024-04-03, Amendment 39-22682 (89 FR 18769, March 15, 2024) (AD 2024-04-03).

(c) Applicability

This AD applies to Airbus SAS airplanes specified in paragraphs (c)(1) through (4), certificated in any category, with an original airworthiness certificate or original export certificate of airworthiness issued on or before December 19, 2023.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 05, Time Limits/Maintenance Checks.

(e) Unsafe Condition

This AD was prompted by a determination that new or more restrictive airworthiness limitations are necessary. The FAA is issuing this AD to address fatigue cracking, accidental damage, or corrosion in principal structural elements, which could result in reduced structural integrity of the airplane.

(f) Compliance

Comply with this AD within the compliance times specified, unless already done.

(g) Retained Revision of the Existing Maintenance or Inspection Program From AD 2023-13-10, With New Terminating Action

This paragraph restates the requirements of paragraph (o) of AD 2023-13-10, with new terminating action. For airplanes with an original airworthiness certificate or original export certificate of airworthiness issued on or before November 10, 2022: Except as specified in paragraph (h) of this AD, comply with all required actions and compliance times specified in, and in accordance with, European Union Aviation Safety Agency (EASA) AD 2022-0085, dated May 12, 2022 (EASA AD 2022-0085), and EASA AD 2023-0008, dated January 16, 2023 (EASA AD 2023-0008). Where EASA AD 2023-0008 affects the same airworthiness limitations as those in EASA AD 2022-0085, the airworthiness limitations referenced in EASA AD 2023-0008 prevail. Accomplishing the revision of the existing maintenance or inspection program required by paragraph (n) of this AD terminates the requirements of this paragraph.

(h) Retained Exceptions to EASA AD 2022-0085 and EASA AD 2023-0008, With No Changes

This paragraph restates the exceptions specified in paragraph (p) of AD 2023-13-10, with no changes.

(1) The requirements specified in paragraphs (1) and (2) of EASA AD 2022-0085 and of EASA AD 2023-0008 do not apply to this AD.

(2) Paragraph (3) of EASA AD 2022-0085 and of EASA AD 2023-0008 specifies revising “the approved AMP” within 12 months after its effective date, but this AD requires revising the existing maintenance or inspection program, as applicable, within 90 days after September 5, 2023 (the effective date of AD 2023-13-10).

(3) The initial compliance time for doing the tasks specified in paragraph (3) of EASA AD 2022-0085 and of EASA AD 2023-0008 is at the applicable “thresholds” as incorporated by the requirements of paragraph (3) of EASA AD 2022-0085 and of EASA AD 2023-0008, respectively, or within 90 days after September 5, 2023 (the effective date of AD 2023-13-10), whichever occurs later. Where EASA AD 2023-0008 affects the same airworthiness limitations as those in EASA AD 2022-0085, the airworthiness limitations referenced in EASA AD 2023-0008 prevail.

(4) The provisions specified in paragraphs (4) and (5) of EASA AD 2022-0085 and of EASA AD 2023-0008 do not apply to this AD.

(5) This AD does not adopt the “Remarks” section of EASA AD 2022-0085 and of EASA AD 2023-0008.

(i) Retained Restrictions on Alternative Actions and Intervals From AD 2023-13-10, With a New Exception

This paragraph restates the requirements of paragraph (q) of AD 2023-13-10, with a new exception. Except as required by paragraphs (j) and (n) of this AD, after the existing maintenance or inspection program has been revised as required by paragraph (g) of this AD, no alternative actions (e.g., inspections) and intervals are allowed unless they are approved as specified in the provisions of the “Ref. Publications” section of EASA AD 2022-0085 or EASA AD 2023-0008, as applicable.

(j) Retained Revision of the Existing Maintenance or Inspection Program From AD 2024-04-03, With New Terminating Action

This paragraph restates the requirements of paragraph (g) of AD 2024-04-03, with new terminating action. For airplanes with an original airworthiness certificate or original export certificate of airworthiness issued on or before May 12, 2023: Except as specified in paragraph (k) of this AD, comply with all required actions and compliance times specified in, and in accordance with, EASA AD 2023-0151, dated July 25, 2023 (EASA AD 2023-0151). Accomplishing the revision of the existing maintenance or inspection program required by paragraph (n) of this AD terminates the requirements of this paragraph.

(k) Retained Exceptions to EASA AD 2023-0151, With No Changes

This paragraph restates the exceptions specified in paragraph (h) of AD 2024-04-03, with no changes.

(1) This AD does not adopt the requirements specified in paragraphs (1) and (2) of EASA AD 2023-0151.

(2) Where paragraph (3) of EASA AD 2023-0151 specifies “Within 12 months after the effective date of this AD, revise the approved AMP,” this AD requires replacing that text with “Within 90 days after April 19, 2024 (the effective date of AD 2024-04-03), revise the existing maintenance or inspection program, as applicable.”

(3) The initial compliance time for doing the tasks specified in paragraph (3) of EASA AD 2023-0151 is at the applicable “associated thresholds” as incorporated by the requirements of paragraph (3) of EASA AD 2023-0151, or within 90 days after April 19, 2024 (the effective date of AD 2024-04-03), whichever occurs later.

(4) This AD does not adopt the provisions specified in paragraph (4) of EASA AD 2023-0151.

(5) This AD does not adopt the “Remarks” section of EASA AD 2023-0151.

(l) Retained Restrictions on Alternative Actions and Intervals From AD 2024-04-03, With No Changes

This paragraph restates the requirements of paragraph (i) of AD 2024-04-03, with no changes. Except as required by paragraph (n) of this AD, after the existing maintenance or inspection program has been revised as required by paragraph (j) of this AD, no alternative actions (e.g., inspections) and intervals are allowed unless they are approved as specified in the provisions of the “Ref. Publications” section of EASA AD 2023-0151.

(m) Retained Terminating Action for Certain Tasks Required by AD 2023-13-10, With No Changes

This paragraph restates the provisions of paragraph (j) of AD 2024-04-03, with no changes. Accomplishing the actions required by paragraph (j) of this AD terminates the corresponding requirements of paragraph (g) of this AD for the tasks identified in the service information referenced in EASA AD 2023-0151 only.

(n) New Revision of the Existing Maintenance or Inspection Program

Except as specified in paragraph (o) of this AD: Comply with all required actions and compliance times specified in, and in accordance with, EASA AD 2024-0031, dated January 31, 2024; corrected February 1, 2024 (EASA AD 2024-0031). Accomplishing the revision of the existing maintenance or inspection program required by this paragraph terminates the requirements of paragraphs (g) and (j) of this AD.

(o) Exceptions to EASA AD 2024-0031

(1) This AD does not adopt the requirements specified in paragraphs (1) and (2) of EASA AD 2024-0031.

(2) Paragraph (3) of EASA AD 2024-0031 specifies revising “the approved AMP,” within 12 months after its effective date, but this AD requires revising the existing maintenance or inspection program, as applicable, within 90 days after the effective date of this AD.

(3) The initial compliance time for doing the tasks specified in paragraph (3) of EASA AD 2024-0031 is at the applicable “associated thresholds” as incorporated by the requirements of paragraph (3) of EASA AD 2024-0031, or within 90 days after the effective date of this AD, whichever occurs later.

(4) This AD does not adopt the provisions specified in paragraphs (4), (5), and (6) of EASA AD 2024-0031.

(5) This AD does not require incorporating Section 4, “Damage Tolerant—Airworthiness Limitations Items—tasks beyond MPPT,” of “the ALS” specified in EASA AD 2024-0031.

(6) This AD does not adopt the “Remarks” section of EASA AD 2024-0031.

(p) New Provisions for Alternative Actions, Intervals, and Critical Design Configuration Control Limitations (CDCCLs)

After the existing maintenance or inspection program has been revised as required by paragraph (n) of this AD, no alternative actions (e.g., inspections), intervals, and CDCCLs are allowed unless they are approved as specified in the provisions of the “Ref. Publications” section of EASA AD 2024-0031.

(q) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (r) of this AD and email to: AMOC@faa.gov.

(i) Before using any approved AMOC, notify your appropriate principal inspector, or lacking a principal inspector, the manager of the responsible Flight Standards Office.

(ii) AMOCs approved previously for AD 2023-13-10 and AD 2024-04-03 are approved as AMOCs for the corresponding provisions of EASA AD 2024-0031 that are required by paragraph (n) of this AD.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(r) Additional Information

For more information about this AD, contact Timothy Dowling, Aviation Safety Engineer, FAA, 2200 South 216th St., Des Moines, WA 98198; phone: 206-231-3667; email: Timothy.P.Dowling@faa.gov.

(s) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on March 21, 2025.

(i) European Union Aviation Safety Agency (EASA) AD 2024-0031, dated January 31, 2024; corrected February 1, 2024.

(ii) [Reserved]

(4) The following material was approved for IBR on April 19, 2024 (89 FR 18769, dated March 15, 2024).

(i) EASA AD 2023-0151, dated July 25, 2023.

(ii) [Reserved]

(5) The following material was approved for IBR on September 5, 2023 (88 FR 50005, dated August 1, 2023).

(i) EASA AD 2022-0085, dated May 12, 2022.

(ii) EASA AD 2023-0008, dated January 16, 2023.

(6) For EASA material identified in this AD contact EASA, Konrad-Adenauer-Ufer 3, 50668 Cologne, Germany; telephone +49 221 8999 000; email ADs@easa.europa.eu; website easa.europa.eu. You may find this material on the EASA website at ad.easa.europa.eu.

(7) You may view this material at the FAA, Airworthiness Products Section, Operational Safety Branch, 2200 South 216th St., Des Moines, WA. For information on the availability of this material at the FAA, call 206-231-3195.

(8) You may view this material at the National Archives and Records Administration (NARA). For information on the availability of this material at NARA, visit www.archives.gov/federal-register/cfr/ibr-locations or email fr.inspection@nara.gov.

Issued on February 4, 2025.
Peter A. White,
Deputy Director, Integrated Certificate Management Division, Aircraft Certification Service.

[FR Doc. 2025-02645 Filed 2-13-25; 8:45 am]

BILLING CODE 4910-13-P